DEPARTMENT OF EDUCATION

Notice of proposed information collection requests

AGENCY: Department of Education.

ACTION: Notice of Proposed Information Collection Requests.

SUMMARY: The Leader, Information Management Group, Office of the Chief Information Officer, invites comments on the proposed information collection requests as required by the Paperwork Reduction Act of 1995.

DATES: An emergency review has been requested in accordance with the Act (44 U.S.C. Chapter 3507(j)), since public harm is reasonably likely to result if normal clearance procedures are followed. Approval by the Office of Management and Budget (OMB) has been requested by January 31, 2000. A regular clearance process is also beginning. Interested persons are invited to submit comments on or before March 27, 2000.

ADDRESSES: Written comments regarding the emergency review should be addressed to the Office of Information and Regulatory Affairs, Attention: Danny Werfel, Desk Officer: Department of Education, Office of Management and Budget; 725 17th Street, NW., Room 10235, New Executive Office Building, Washington, DC 20503 or should be electronically mailed to the internet address DWERFEL@OMB.EOP.GOV.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Leader, Information Management Group, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: January 19, 2000.
William E. Burrow,
Leader, Information Management Group,
Office of the Chief Information Officer.

Office of the Chief Financial Officer

Type of Review: Reinstatement.

Title: Grant Performance Report.

Abstract: ED uses the information collection specific to ED FORM 524-B for the award and administration of multi-year discretionary grants. The Department has substantially increased the flexibility of the grant process by enabling all years of multi-budgets to be negotiated at the time of the initial award. (ED GAPS001) and to submit only performance report (ED FORM 524-B) to receive continuation funding. This clearance also includes government-wide common rules for institutions of HIgher Education, Non-Profit agencies, and State and local governments.

Additional Information: There is an urgent need for the six principal offices to disseminate the approved Grant Performance Report (524-B) at scheduled technical assistance meetings in February and March in order for recipients to prepare the reports accurately and to submit them in a timely manner. Failure to receive the information and technical assistance would result in additional hardship to an estimated 6,000 recipients.

Failure to receive the reports in a timely manner would delay ED from issuing the continuation awards in accordance with Departmental directives. Also, the reported information is needed for ED to document program and administrative performance on essential indicators described in ED's strategic plan as required by the Government Performance and Results Act.

We are requesting an Emergency Clearance by OMB for the Grant Performance Report (524-B). When the emergency clearance has been granted the Department will submit the same document to OMB for a three year clearance.

Frequency: One time. High-risk grant organizations may be required to report more frequently.

Affected Public: State, Local, or Tribal Gov't, SEAs or LEAs; Not-for-profit institutions; Individuals or household.

Reporting and Recordkeeping Hour Burden: Responses: 6,000. Burden Hours: 120,000.

Requests for copies of the proposed information collection request should be addressed to Vivian Reese, Department of Education, 400 Maryland Avenue, S.W., Room 5624, Regional Office Building 3, Washington, D.C. 20202-4651, or should be electronically mailed to the internet address OCIO_IMG_Issues@ed.gov, or should be faxed to 202-708-9346.

Written comments or questions regarding burden and/or the collection activity requirements, contact Terry O'Malley at (202) 395-6466. Individuals who use a telecommunications device for the deaf (TDD) may call the Federal Information Relay Service (FIRS) at 1-800-877-8339.

[FR Doc. 00-1707 Filed 1-24-00; 8:45 am]

BILLING CODE 4000-01-U